DEPARTMENT OF TRANSPORTATION

Federal Aviation Administration

[Docket No.: FAA-2025-2287; Summary Notice No. 2025-65]

Petition for Exemption; Summary of Petition Received; Galaxy Unmanned Systems, LLC; Correction

AGENCY: Federal Aviation Administration (FAA), Department of Transportation (DOT).

ACTION: Notice; correction.

SUMMARY: This notice contains a corrected summary of a petition seeking relief from specified requirements of 14 CFR. The purpose of this notice is to improve the public's awareness of, and participation in, this aspect of the FAA's regulatory activities. Neither publication of this notice nor the inclusion or omission of information in the summary is intended to affect the legal status of the petition or its final disposition.

DATES: Comments on this petition must identify the petition docket number and must be received on or before January 20, 2026.

ADDRESSES: Send comments identified by docket number FAA-2025-2287 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Alexander Kem, Office of Rulemaking, Federal Aviation Administration, 800 Independence Avenue SW, Washington, DC 20591, at 202-267-9677.

SUPPLEMENTARY INFORMATION: This is a corrected summary of this petition that was published on December 17, 2025.

This notice is published pursuant to 14 CFR 11.85.

Issued in Washington, DC,
Dan A. Ngo,
Manager, Part 11 Petitions Branch, Office of Rulemaking.

Petition For Exemption

Docket No.: FAA-2025-2287.

Petitioner: Galaxy Unmanned Systems, LLC.

Section(s) of 14 CFR Affected: §§ 61.3(a)(1)(i), 61.3(c)(1), 61.23(a)(2), 91.7(a), 91.119(c), 91.121, 91.151(b), 91.403(b), 91.405(a), 91.407(a)(1), 91.409(a)(1), 91.409(a)(2), 91.417(a), and 91.417(b).

Description of Relief Sought: Galaxy Unmanned Systems, LLC. requested an amendment to Exemption No. 23205 that would add a new aircraft, GC80-E4, to conduct operations at night, to operate flight over people, and to operate within 500 feet of stadium structures to provide live broadcast, commercial aerial advertising, and commercial payload carrying.

[FR Doc. 2025-23915 Filed 12-29-25; 8:45 am]

BILLING CODE 4910-13-P